DEPARTMENT OF ENERGY

Proposed Subsequent Arrangement

AGENCY: Office of Nonproliferation and International Security, Department of Energy.

ACTION: Proposed subsequent arrangement.

SUMMARY: This document is being issued under the authority of the Atomic Energy Act of 1954, as amended. The Department is providing notice of a proposed subsequent arrangement to be carried out in the Republic of Korea under the Agreement for Cooperation between the Government of the United States of America and the Government of the Republic of Korea Concerning Civil Uses of Atomic Energy, signed November 24, 1972, as amended (the “Agreement”).

DATES: This subsequent arrangement will take effect no sooner than June 9, 2014

FOR FURTHER INFORMATION CONTACT: Ms. Katie Strangis, Office of Nonproliferation and International Security, National Nuclear Security Administration, Department of Energy. Telephone: 202-586-8623 or email: Katie.Strangis@nnsa.doe.gov.

SUPPLEMENTARY INFORMATION: This subsequent arrangement concerns a proposed Joint Determination by the Government of the United States of America and the Government of the Republic of Korea pursuant to Article VIII(C) of the Agreement, that the provisions of Article XI of the Agreement may be effectively applied for the alteration in form or content of U.S.-origin nuclear material irradiated in pressurized water reactors, CANDU reactors, and a research reactor, at the Post Irradiation Examination Facility (PIEF), the Irradiated Material Examination Facility (IMEF), the Radio Isotope Production Area (RIPA), and the DUPIC Fuel Development Facility (DFDF), along with identified analytical laboratories, at the Headquarters of the Korea Atomic Energy Research Institute (KAERI), in accordance with the plans contained in the documents KAERI/AR-1003/2013, “Post-Irradiation Examination and R&D Programs Using Irradiated Fuels at KAERI,” dated August 2013, and KAERI/AR-1004/2013, “DUPIC Fuel Fabrication Using Spent PWR Fuel at KAERI,” dated August 2013. These facilities are found acceptable to both parties pursuant to Article VIII(C) of the Agreement for the sole purpose of alteration in form or content of irradiated U.S.-origin nuclear material for post-irradiation examination and for research, development and manufacture of DUPIC fuel powders, pellets and elements for the period beginning on the date of entry into force of an agreement extending the terms of the Agreement beyond March 19, 2014, and ending on the earlier of March 19, 2016, or the date of entry into force of a successor agreement to the Agreement, unless terminated earlier by written agreement of the Parties to the Agreement. Any activities additional to the plans or changes in the equipment in these facilities will be reviewed by both parties to ensure the general consistency with the scope and objectives of the Joint Determination.

In accordance with section 131a. of the Atomic Energy Act of 1954, as amended, it has been determined that this subsequent arrangement will not be inimical to the common defense and security of the United States of America.

Dated: May 7, 2014.
For the Department of Energy.
Anne M. Harrington,
Deputy Administrator, Defense Nuclear Nonproliferation.

[FR Doc. 2014-12000 Filed 5-22-14; 8:45 am]

BILLING CODE 6450-01-P